DEPARTMENT OF ENERGY

Federal Energy Regulatory Commission

[Docket No. RP03-329-001]

ANR Pipeline Company; Notice of Compliance Filing

May 15, 2003.

Take notice that on May 9, 2003, ANR Pipeline Company (ANR), tendered for filing for as part of its FERC Gas Tariff, Second Revised Volume No. 1, the following tariff sheet, with an effective date of May 1, 2003:

Substitute Second Revised Sheet No. 101A

Substitute Original Sheet No. 101B

ANR states that the tariff sheets are being filed in compliance with the Commission's April 30, 2003 order accepting ANR's proposal of certain changes to ANR's Rate Schedule FSS in order to provide more flexibility to its current firm storage service, primarily by modifying the timeframe within which storage and transportation services can be sold.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 21, 2003.

Magalie R. Salas,
Secretary.

[FR Doc. 03-12828 Filed 5-21-03; 8:45 am]

BILLING CODE 6717-01-P